DEPARTMENT OF TRANSPORTATION

Federal Aviation Administration

[Docket No. FAA-2006-25553]

Request for Public Comment on Noise Analysis for Fort Lauderdale-Hollywood International Airport, Broward County, FL

AGENCY: Federal Aviation Administration (FAA), DOT.

ACTION: Request for public comments.

SUMMARY: The Federal Aviation Administration (FAA) is requesting public comments on a Noise Analysis that was prepared for the Fort Lauderdale-Hollywood International Airport (FLL). This Analysis identifies noise impacts in the areas surrounding FLL during a 12-month period from July 2003 to June 2004 and a 12-month period from April 2005 to March 2006. This Noise Analysis is being provided for public comment as part of a settlement agreement between the FAA and Broward County related to runway utilization at FLL.

DATES: The public is invited to comment on this Noise Analysis on or before November 30, 2006.

ADDRESSES: Address your comments to the Docket Management System, U.S. Department of Transportation, Room Plaza 401, 400 Seventh Street, SW., Washington, DC 20590-0001. You must identify the docket number FAA-2006-25553 at the beginning of your comments and you should submit two copies of your comments. If you wish to receive confirmation that FAA received your comments, include a self-addressed, stamped postcard.

You may also submit comments through the Internet to http://dms.gov. You may review the public docket containing comments to this notice in person in the Dockets Office between 9 a.m. and 5 p.m. Monday through Friday, except Federal holidays. The Dockets Office is on the plaza level of the NASSIF building at the Department of Transportation at the above address. Also, you may review public dockets on the Internet at http://dms.dot.gov. FAA will respond in writing to all substantive, properly submitted comments.

FOR FURTHER INFORMATION CONTACT: Questions concerning the public comment process should be directed to the FAA contact person, Mr. Miles T. Bennett, Office of Airport Planning and Programming, Planning and Environmental Division, APP-400. Mr. Bennett can be contacted in writing at Federal Aviation Administration, 800 Independence Avenue, SW., Washington, DC 20591, Attn: APP-400; or by e-mail at Tom.Bennett@faa.gov; or via telephone at (202) 267-3263. The Integrated Noise Model (INM) input data used in preparing the noise contours is available upon request from the point of contact.

SUPPLEMENTARY INFORMATION: This Noise Analysis is separate and independent from the Environmental Impact Statement (EIS) process initiated by the FAA for a proposed runway project on January 19, 2005. 70 FR 3095 (January 19, 2005). The 2004 Map was previously provided for public review during the scoping process for the above EIS. The 2005 Map derives from noise analysis conducted for the above EIS.

The purpose of this Noise is to notify Federal, State, local government agencies, and the public about the availability of the Noise Analysis and the opportunity for review and comment. The FAA is also announcing the availability of the Noise Analysis in major local newspapers in the vicinity of FLL.

Background

Fort Lauderdale-Hollywood International Airport (FLL) is owned and operated by, and lies within, Broward County, Florida. The cities of Dania Beach, Hollywood, Davie, and Fort Lauderdale and adjacent, or in close proximity, to the airport. The airport is bordered by Interstate 595 to the north, Griffin Road to the south, U.S. Route 1 to the east and Interstate 95 to the west.

In 1989, FAA accepted Noise Exposure Maps (NEMs) submitted by Broward County for FLL. FAA also received and approved a Noise Compatibility Program (NCP) for FLL pursuant to 49 U.S.C. 47501 et seq., as implemented by 14 CFR part 150 (part 150). The FAA reviews airport noise compatibility programs for consistency with statutory and regulatory criteria. 65 FR 43802, 43809 (July 14, 2000). To qualify for approval, program measures, among other things, (1) Must be reasonably consistent with the goals of reducing existing noncompatible land uses around the airport and of preventing the introduction of additional noncompatible land uses; (2) must not derogate safety or adversely affect the safe and efficient use of airspace; (3) must not impose an undue burden on interstate or foreign commerce; (4) must not be unjustly discriminatory or violate other airport grant agreement assurances; and (5) must be consistent with the powers and responsibilities of the FAA Administrator. The FAA must approve NCPs that meet the specified criteria. FLL's approved 1989 NCP included an informal runway use program. Under this runway use program the northernmost parallel runway at FLL, Runway 9L/27R, was designated as the “preferred runway” for turbojet departures and arrivals. FLL has three runways, two parallel east-west runways and a crosswind runway (generally running from the northwest to the southeast). The northernmost parallel runway is as noted above; the southernmost parallel runway is 9R/27L; the crosswind runway is 13/31.

Pursuant to FAA Order 8400.9, National Safety and Operational Criteria for Runway Use Programs, and FAA order 7110.65M, “Air Traffic Control”, Pilot/Controller Glossary, a runway use program is a runway selection plan designed to enhance noise abatement efforts. The Air Traffic Service (now “Air Traffic Operations”) administers runway use programs as “Formal” or “Informal.” Formal programs are defined and acknowledged in a Letter of Understanding between the Office of Flight Operations, Air Traffic Service, the airport proprietor, and the users. Once established, participation in a formal program is mandatory for aircraft operators and pilots as provided for in 14 CFR 91.129(h). An informal runway use program does not require a Letter of Understanding, and participation in the program is voluntary for aircraft operators/pilots.

In 1995, Broward County submitted revised NEMs and a revised NCP for FLL. The NCP included a recommendation to continue the informal runway use program. FAA approved continuation of the informal runway use program as a voluntary measure. About 10 years later, by letter dated June 23, 2005, FAA advised Broward County that air traffic had recently increased to levels that periodically exceeded the capacity of the noise abatement runway, 9L/27R, resulting in delays affecting the national airspace system. FAA announced that the non-preferred runways would experience an increase in use when the capacity of the preferred runway was exceeded in the future. The June 23, 2005, letter expressly noted that FAA was not proposing to change the informal runway use program; however, when demand for the preferred runway exceeded its capacity, FAA would make use of all available runways. Prior to June 23, 2005, occasionally Runway 13/31, and more frequently Runway 9L/27R, were made available for use by turbojet aircraft in some situations. The County specifically agreed to allow use of Runway 13/31 when Runway 9L/27R was being resurfaced and to allow use of both Runway 13/31 and 9R/27L between three and four hours per year during air-shows. In addition, Runway 13/31 was used by turbojet aircraft during aircraft emergencies, crosswind conditions, and severe weather conditions. In recent years Runway 9R/27L has been used for turbojet aircraft on a limited basis, during peak demand hours.

Runway use at FLL since June 23, 2005, can generally be described as follows: In the early part of the day, air carrier and turbojet traffic primarily consists of arrivals, with relatively few departures. The capacity of the preferred runway is typically not exceeded during this period. As the day progresses, the number of air carrier and turbojet arrivals progressively increases while air carrier and turbojet departures significantly increases and the capacity of 9R/27L may be exceeded. It is at this point that runway 9R/27L is utilized to alleviate departure and/or arrival backlog that runway 9L/27R cannot accommodate. Occasionally, the crosswind runway must be tactically used to alleviate departure and/or arrival baggage. This permits ATO to reduce the departure/arrival backlog more quickly and allows the airport to return to operating on the parallel runways. Typically, in the latter part of the day/evening, the air carrier and turbojet traffic levels off and the preferred runway is eventually able to handle the air carrier and turbojet traffic demand. As shown in the runway and utilization data described in this Request for Public Comment, the change in use of runway 13/31 following June 23, 2005, has been minor and did not change the noise contour. Setting aside the proposed runway development that is the subject of the current EIS, FAA does not anticipate any major changes in future runway utilization unless there is a major change at the airport (i.e., number of operations, runway characteristics, etc.).

This Noise Analysis discloses the noise impacts at FLL during a 12-month period from July 2003 to June 2004 and a 12-month period from April 2005 to March 2006. The Noise Analysis includes two maps that identify land uses in areas surrounding FLL that experience noise levels of 65, 70 and 75 DNL dB or greater. The noise contours are superimposed over the land uses. The 2004 and 2005 maps are available on FAA's Web site, as noted below.

The first map represents the noise conditions at FLL for the 12-month period from July 2003 through June 2004 (the 2004 map: See http://www.faa.gov/airports_airtraffic/airports/regional_guidance/southern/environmental/media/fll_exhib1_2004_baseline.pdf). Between July 2003 and June 2004, 304,430 annual operations occurred at FLL, which equates to 834 average-annual day operations. The second map represents the noise conditions at FLL for a 12-month period between April 2005 and March 2006 (the 2005 map: See http://www.faa.gov/airports_airtraffic/airports/regional_guidance/southern/environmental/media/fll_exhib2_2005_baseline.pdf). Between April 2005 and March 2006, 320,400 annual operations occurred at FLL, which constitutes 878 average-annual day operations. A comparison of the two maps reflects how noise impacts changed between 2004 and 2005, including any effect of increasing use of the non-preferred runways during periods when demand exceeds the capacity of the north parallel runway (See http://www.faa.gov/airports_airtraffic/airports/regional_guidance/southern/environmental/media/fll_exhib3_2004_2005_baseline.pdf).

Each map was generated using FAA's Integrated Noise Model (INM) Version 6.1. Inputs to the INM include the runway length and direction, number of aircraft operations (the landing or take-off of an aircraft is considered one “operation”) during the period evaluated, the types of aircraft flown, the time of day when they were flown, how frequently each runway was used for arriving and departing aircraft, the routes of flight used to and from the runways (flight tracks), and ground runup activity. The INM calculates noise exposure for the area around the airport and outputs contours of equal noise exposure. The same flight tracks were used in preparing both maps because no change in the flight tracks occurred during the relevant period.

Aircraft types and times of operations were determined using Official Airline Guide (OAG) data, landing fee reports for the relevant periods, and the Airports Noise and Operations Management System (ANOMS) data. The ANOMS data was provided by Broward County.

The number of housing units, number of people, and area within each noise exposure contour for 2004 is illustrated below. This data compiled using parcel records from the Broward County property appraiser's office and through a review of aerial photography.

Summary units 2004 | Multi family | Single family | Mobile home | Total units
65 DNL | 11 | 10 | 36 | 57
70 DNL | 0 | 3 | 0 | 3
75 DNL | 0 | 0 | 0 | 0
65+ | 11 | 13 | 36 | 60

Summary Population 2004 | Multi family | Single family | Mobile home | Total pop
65 DNL | 29 | 24 | 60 | 113
70 DNL | 0 | 9 | 0 | 9
75 DNL | 0 | 0 | 0 | 0
65+ | 29 | 33 | 60 | 122

Area Exposed to Various Noise Levels (in Square miles)
2004 map
Noise level | Area on 2004 map | Area over airport property | Area over Atlantic Ocean
65 DNL | 3.0 | 0.5 | 0.4
70-75 DNL | 1.3 | 0.4 | 0.0
75+ DNL | 0.9 | 0.8 | 0.0
Total 65+ DNL | 5.2 | 1.7 | 0.4
Source: Landrum & Brown, 2004.

Approximately 5.2 square miles are within the 2004 Maps' 65+ DNL noise contour. However, 2.1 square miles of that is over either the airport or the Atlantic Ocean.

The number of housing units, number of people, and area within each noise exposure contour for 2005 is illustrated below.

Summary units 2005 | Multi family | Single family | Mobile home | Total units
65 DNL | 2 | 2 | 0 | 4
70 DNL | 0 | 3 | 0 | 3
75 DNL | 0 | 0 | 0 | 0
65+ | 2 | 5 | 0 | 7

Summary Population 2005 | Multi family | Single family | Mobile home | Total pop
65 DNL | 4 | 5 | 0 | 9
70 DNL | 0 | 9 | 0 | 9
75 DNL | 0 | 0 | 0 | 0
65+ | 4 | 14 | 0 | 18

Area Exposed to Various Noise levels (in Square Miles)
[2005 Map's Noise Contours]
Noise level | Area on 2005 map | Area over airport property | Area over Atlantic Ocean
65-70 DNL | 2.8 | 0.6 | 0.3
70-75 DNL | 1.3 | 0.6 | 0.0
75+ DNL | 0.8 | 0.7 | 0.0
Total 65+ DNL | 4.9 | 1.9 | 0.3
Source: Landrum & Brown, 2006.

Approximately 4.9 square miles are within the 2005 Map's 65+ DNL noise contour. However, 2.2 square miles of that area is over either airport property or the Atlantic Ocean.

Comparison of 2004 and 2005 Noise Contours:

Number of Operations and Fleet Mix: Annual operations increased by 15,970 between July 2003 and March 2006, which results in an increase of 44 average-annual day operations. This increase occurred in the air carrier and commuter/air tai categories, while the general aviation category experienced a decrease. In addition to the increase in operations, there was also a change in the fleet mix of the air carrier and commute/air taxi categories. The air carrier fleet experienced a reduction in the older noisier aircraft, such as the 727-200 (Hushkitted), 737-200 (Hushkitted) and the MD90 aircraft, and an increase in newer quieter aircraft, such as Airbus 319, 320 and 321 aircraft. The commute/air taxi agency experienced an increase in regional jets and turboprop aircraft. The percentage of nighttime operations decreased from the 2004 Map to the 2005 Map. The percent of nighttime operations for the 2004 Map was approximately 11 percent while the percentage of nighttime operations for the 2005 Map decreased to approximately 10 percent.

Runway Utilization: The runway utilization at FLL is comparable between the period covered by the 2004 Map and the 2005 Map. The minor difference in runway utilization percentages is within a normal variance for a large airport when comparing data from different time periods. The 2005 map reflects increase use of Runway 9R by general aviation jets and commuter propeller aircraft. Runway end utilization percentages reflect an average annual day.

Runway End Utilization 2004 Map
[Fort Lauderdale—Hollywood International Airport]
Runway user group | Percentage: 09L | Percentage: 09R | Percentage: 13 | Percentage: 27R | Percentage: 27L | Percentage: 31 | Percentage: Total
Air Carrier/Cargo
Takeoff
Heavy Jet
Daytime | 77.1 | 0.0 | 0.5 | 21.8 | 0.0 | 0.6 | 100
Nighttime | 78.4 | 0.0 | 0.5 | 20.4 | 0.0 | 0.7 | 100
Landing
Daytime | 74.9 | 0.0 | 1.3 | 23.3 | 0.0 | 0.5 | 100
Nighttime | 79.6 | 0.0 | 1.0 | 19.2 | 0.0 | 0.2 | 100
Air Carrier/Cargo
Takeoff
Large Jet
Daytime | 77.6 | 0.0 | 0.5 | 21.4 | 0.0 | 0.5 | 100
Nighttime | 78.1 | 0.0 | 0.4 | 20.9 | 0.0 | 0.6 | 100
Landing
Daytime | 76.1 | 0.0 | 1.6 | 22.1 | 0.0 | 0.2 | 100
Nighttime | 79.3 | 0.1 | 0.1 | 19.3 | 0.0 | 0.4 | 100
Commuter/Air Taxi
Takeoff
Commuter Jet
Daytime | 76.7 | 0.9 | 0.6 | 20.7 | 0.3 | 0.8 | 100
Nighttime | 78.5 | 0.0 | 0.6 | 18.4 | 0.0 | 2.5 | 100
Landing
Daytime | 73.5 | 1.9 | 1.9 | 21.6 | 0.5 | 0.6 | 100
Nighttime | 74.3 | 0.4 | 1.5 | 22.8 | 0.1 | 0.9 | 100
Takeoff
Commuter Prop
Daytime | 57.2 | 20.0 | 1.4 | 12.8 | 7.0 | 1.7 | 100
Nighttime | 71.4 | 1.8 | 2.5 | 19.5 | 0.9 | 3.9 | 100
Landing
Daytime | 40.2 | 33.6 | 3.7 | 12.7 | 8.8 | 1.0 | 100
Nighttime | 70.0 | 1.7 | 2.3 | 25.2 | 0.8 | 0.0 | 100
General Aviation/Military
Takeoff
General Aviation
Jet Daytime | 74.9 | 1.6 | 0.6 | 20.2 | 1.0 | 1.7 | 100
Nighttime | 77.8 | 0.3 | 0.8 | 17.5 | 0.1 | 3.5 | 100
Landing
Daytime | 71.4 | 3.2 | 2.0 | 22.2 | 0.9 | 0.3 | 100
Nighttime | 76.5 | 0.3 | 3.2 | 18.1 | 0.1 | 1.8 | 100
Takeoff
General Aviation
Prop Daytime | 52.1 | 23.0 | 2.6 | 10.5 | 9.1 | 2.7 | 100
Nighttime | 75.1 | 0.5 | 2.7 | 17.8 | 0.0 | 3.9 | l00
Landing
Daytime | 32.1 | 41.4 | 2.6 | 11.0 | 11.3 | 1.6 | 100
Nighttime | 74.2 | 0.6 | 2.1 | 22.1 | 0.3 | 0.7 | 100
Daytime=7:00 a.m.-9:59 p.m.
Nighttime=10:00 p.m.-6:59 a.m.
Source: 2003, 2004 Airports Noise and Operations Management System (ANOMS) data, Broward County Aviation Department.

Runway End Utilization 2005 Map
[Fort Lauderdale—Hollywood International Airport]
Runway user group | Percentage: 09L | Percentage: 09R | Percentage: 13 | Percentage: 27R | Percentage: 27L | Percentage: 31 | Percentage: Total
Air Carrier/Cargo
Takeoff
Heavy Jet
Daytime | 77.0 | 0.0 | 0.3 | 23.0 | 0.0 | 0.2 | 100
Nighttime | 76.8 | 0.0 | 0.1 | 23.0 | 0.0 | 0.1 | 100
Landing
Daytime | 77.5 | 0.0 | 0.5 | 21.9 | 0.0 | 0.1 | 100
Nighttime | 77.8 | 0.0 | 1.5 | 20.6 | 0.0 | 0.1 | 100
Air Carrier/Cargo
Takeoff
Large Jet
Daytime | 78.1 | 0.0 | 0.1 | 21.7 | 0.0 | 0.1 | 100
Nighttime | 77.4 | 0.0 | 0.2 | 22.2 | 0.0 | 0.2 | 100
Landing
Daytime | 77.5 | 0.0 | 0.5 | 21.9 | 0.0 | 0.1 | 100
Nighttime | 77.8 | 0.0 | 1.8 | 20.3 | 0.0 | 0.1 | 100
Commuter/Air Taxi
Takeoff
Commuter Jet
Daytime | 78.1 | 0.0 | 0.1 | 21.7 | 0.0 | 0.1 | 100
Nighttime | 77.4 | 0.0 | 0.2 | 22.2 | 0.0 | 0.2 | 100
Landing
Daytime | 77.5 | 0.0 | 0.5 | 21.9 | 0.0 | 0.1 | 100
Nighttime | 77.8 | 0.0 | 1.8 | 20.3 | 0.0 | 0.1 | 100
Takeoff
Commuter Prop
Daytime | 43.2 | 34.2 | 1.6 | 12.0 | 8.2 | 0.8 | 100
Nighttime | 70.9 | 3.2 | 2.4 | 19.6 | 1.5 | 2.4 | 100
Landing
Daytime | 25.4 | 53.3 | 0.5 | 19.2 | 1.5 | 0.1 | 100
Nighttime | 81.6 | 0.1 | 1.5 | 16.6 | 0.1 | 0.1 | 100
General Aviation/Military
Takeoff
General Aviation. | 66.5 | 10.4 | 0.8 | 16.8 | 4.7 | 0.8 | 100
Jet Daytime | 66.5 | 10.4 | 0.8 | 16.8 | 4.7 | 0.8 | 100
Nighttime | 77.7 | 0.2 | 1.3 | 20.1 | 0.1 | 0.6 | 100
Landing
Daytime | 58.3 | 19.9 | 0.4 | 14.9 | 6.4 | 0.1 | 100
Nighttime | 75.9 | 0.2 | 2.8 | 20.5 | 0.5 | 0.1 | 100
Takeoff
General Aviation
Prop Daytime | 47.0 | 28.5 | 3.0 | 9.7 | 10.0 | 1.8 | 100
Nighttime | 74.5 | 4.5 | 2.0 | 13.1 | 0.5 | 5.4 | 100
Landing
Daytime | 22.7 | 56.4 | 0.4 | 5.7 | 14.7 | 0.1 | 100
Nighttime | 79.7 | 0.3 | 1.9 | 17.4 | 0.6 | 0.1 | 100
Daytime=7:00 a.m.-9:59 p.m.
Nighttime=10:00 p.m.-6:59 a.m.
Source: 2005, 2006 Airports Noise and Operations Management System (ANOMS) data, Broward County Aviation Department.

Flight Tracks: No change in the flight tracks occurred between July 2003 and March 2006.

Ground Runup Noise: There was a small increase in the number of engine runups that is reflected in the 2005 Map. This change was in proportion to the increase or decrease in the overall operations of the types of aircraft performing the runups.

Noise Contours: The 2005 noise contour is smaller than the 2004 contour due to the changes in fleet mix and the decrease in the percentage of nighttime operations. The shape of the noise contours off all runway ends remains the same, which is reflective of no significant changes in runway end utilization or flight tracks. The minor change in the utilization of Runway 13/31 did not change the noise contour.

The two areas where differences in the noise contours occur are to the west of the airport, off Runway 9L/27R and to the northwest of the airport, off Runway 13/31 (See http://www.faa.gov/airports_airtraffic/airports/regional_guidance/southern/environmental/media/fll_exhibx_housing_diff_2004_2005.pdf). For the area west of the airport, off Runway 9L/27R, a total of nine (9) mobile homes are no longer in the 2005 65 DNL noise contour when compared to the 2004 65 DNL dB noise contour. For the area northwest of the airport, off Runway 13/31, a total of thirty-seven (37) homes (consisting of twenty-seven (27) mobile homes, two (2) multi-family homes with a total of nine (9) units, and eight (8) single-family homes) are no longer in the 2005 65 DNL dB noise contour when compared to the 2004 65 DNL dB noise contour.

Summary units difference 2004 and 2005 | Multi family | Single family | Mobile home | Total units
65 DNL | −9 | −8 | −36 | −53
70 DNL | 0 | 0 | 0 | 0
75 DNL | 0 | 0 | 0 | 0
65+ | −9 | −8 | −36 | −53

Summary population difference 2004 and 2005 | Multi family | Single family | Mobile home | Total pop
65 DNL | −25 | −19 | −60 | −104
70 DNL | 0 | 0 | 0 | 0
75 DNL | 0 | 0 | 0 | 0
65+ | −25 | −19 | −60 | −104

Issued in Washington, DC on October 24, 2006.
Steve Kelley,
Manager, Airspace and Procedures, Eastern Terminal Services, Federal Aviation Administration.

[FR Doc. 06-8975 Filed 10-30-06; 8:45 am]

BILLING CODE 4910-13-M